DEPARTMENT OF ENERGY

Federal Energy Regulatory Commission

[Project No. 2736-045]

Idaho Power Company; Notice of Application Accepted for Filing and Soliciting Comments, Motions To Intervene, and Protests

Take notice that the following hydroelectric application has been filed with the Commission and is available for public inspection:

a. Type of Application: Non-Capacity Amendment of License.

b. Project No.: 2736-045.

c. Date Filed: April 15, 2022, and supplemented on May 26, 2022.

d. Applicant: Idaho Power Company.

e. Name of Project: American Falls Hydroelectric Project.

f. Location: The project is located at the U.S. Bureau of Reclamation's American Falls Replacement Dam on the Snake River, near the city of American Falls in Power County, Idaho.

g. Filed Pursuant to: Federal Power Act 16 U.S.C. 791a-825r.

h. Applicant Contact: Mr. Nathan Gardiner, Senior Counsel, Idaho Power Company, 1221 West Idaho Street, Boise, ID 83702; (208) 388-2975; ngardiner@idahopower.com.

i. FERC Contact: Linda Stewart, (202) 502-8184, linda.stewart@ferc.gov.

j. Deadline for filing comments, motions to intervene, and protests: July 6, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2736-045. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, it must also serve a copy of the document on that resource agency.

k. Description of Request: Idaho Power Company (licensee) proposes to refurbish the three turbine generating units sequentially over the course of approximately three years. Under its proposed schedule to perform the maintenance work, the licensee would take turbine generating unit 1 offline in October 2022. Anticipating that the maintenance work for each turbine generating unit would take approximately one year to complete, the licensee plans to take turbine generating units 2 and 3 offline for refurbishment in October 2023 and October 2024, respectively. All proposed activity would occur in the powerhouse, with no ground disturbing activity or in water work necessary. A single turbine generating unit would be offline periodically during the refurbishment period. Therefore, the proposal may result in an increased flow over the spillway while the work is being done, depending on whether the inflow to the project exceeds the hydraulic capacity of the two online units. Under the proposal, the total authorized capacity of the project would remain at 90,000 horsepower (67,500 kilowatts) as defined by current section 11.1 of the Commission's regulations, and the hydraulic capacity would increase from 13,704 to 14,115 cubic feet per second.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting, or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: June 6, 2022.
Kimberly D. Bose,
Secretary.

[FR Doc. 2022-12547 Filed 6-9-22; 8:45 am]

BILLING CODE 6717-01-P